DEPARTMENT OF HOMELAND SECURITY

Coast Guard

33 CFR Part 165

[Docket No. USCG-2012-0375]

Safety Zone; Milwaukee Harbor, Milwaukee, WI

AGENCY: Coast Guard, DHS.

ACTION: Notice of enforcement of regulation.

SUMMARY: The Coast Guard will enforce the safety zone for annual fireworks events in the Captain of the Port, Lake Michigan zone at specified times from June 15, 2013, until September 7, 2013. This action is necessary and intended to ensure safety of life on the navigable waters immediately prior to, during, and immediately after fireworks displays. During enforcement, the Coast Guard will enforce restrictions upon, and control movement of, vessels in the safety zone. No person or vessel may enter the safety zone while it is being enforced without permission of the Captain of the Port, Lake Michigan.

DATES: The regulations in 33 CFR 165.935 will be enforced at the times specified in the SUPPLEMENTARY INFORMATION section that follows.

FOR FURTHER INFORMATION CONTACT: If you have questions on this notice, call or email MST1 Joseph McCollum, Prevention Department, Coast Guard Sector Lake Michigan, Milwaukee, WI at (414) 747-7148, email joseph.p.mccollum@uscg.mil.

SUPPLEMENTARY INFORMATION: The Coast Guard will enforce the safety zone listed in 33 CFR 165.935, Safety Zone, Milwaukee Harbor, Milwaukee, WI, at the following times for the following events:

(1) Polish Fest fireworks display on June 15, 2013, from 10:15 p.m. until 11:00 p.m.;

(2) Summerfest fireworks display on June 26, 2013, and July 3, 2013, from 9:15 p.m. until 10:30 p.m.;

(3) Festa Italiana fireworks display on each day of July 19, 20, and 21, 2013, from 10:15 p.m. until 11:15 p.m.;

(4) German Fest fireworks display on July 26 and 27, 2013, from 10:15 p.m. until 11:15 p.m.;

(5) Irish Fest fireworks display on August 18, 2013, from 10:15 p.m. until 11:15 p.m.;

(6) Indian Summer fireworks display on September 6 and 7, 2013, from 9:15 p.m. until 10:30 p.m.

All vessels must obtain permission from the Captain of the Port, Lake Michigan, or his on-scene representative to enter, move within, or exit the safety zone. Vessels and persons granted permission to enter the safety zone shall obey all lawful orders or directions of the Captain of the Port, Lake Michigan, or his on-scene representative.

This notice is issued under authority of 33 CFR 165.935 Safety Zone, Milwaukee Harbor, Milwaukee, WI and 5 U.S.C. 552(a). In addition to this notice in the Federal Register, the Coast Guard will provide the maritime community with advance notification of the enforcement period via broadcast Notice to Mariners or Local Notice to Mariners. The Captain of the Port, Lake Michigan, or his on-scene representative may be contacted via VHF Channel 16.

Dated: June 11, 2013.
M.W. Sibley,
Captain, U.S. Coast Guard, Captain of the Port, Lake Michigan.

[FR Doc. 2013-14801 Filed 6-20-13; 8:45 am]

BILLING CODE 9110-04-P